DEPARTMENT OF THE INTERIOR

National Park Service

[NPS-WASO-NAGPRA-NPS0037087; PPWOCRADN0-PCU00RP14.R50000]

Notice of Inventory Completion: South Carolina Institute of Archaeology and Anthropology, University of South Carolina, Columbia, SC

AGENCY: National Park Service, Interior.

ACTION: Notice.

SUMMARY: In accordance with the Native American Graves Protection and Repatriation Act (NAGPRA), the South Carolina Institute of Archaeology and Anthropology (SCIAA) has completed an inventory of human remains and associated funerary objects and has determined that there is a cultural affiliation between the human remains and associated funerary objects and Indian Tribes or Native Hawaiian organizations in this notice. The human remains and associated funerary objects were removed from Pickens County, SC.

DATES: Repatriation of the human remains and associated funerary objects in this notice may occur on or after January 18, 2024.

ADDRESSES: Nina Schreiner, South Carolina Institute of Archaeology and Anthropology (SCIAA), College of Arts and Sciences, University of South Carolina, 1321 Pendleton Street, Columbia, SC 29208, email Schreinn@email.sc.edu.

SUPPLEMENTARY INFORMATION: This notice is published as part of the National Park Service's administrative responsibilities under NAGPRA. The determinations in this notice are the sole responsibility of the SCIAA. The National Park Service is not responsible for the determinations in this notice. Additional information on the determinations in this notice, including the results of consultation, can be found in the inventory or related records held by the SCIAA.

Description

In 1968, human remains were removed from site 38PN1, Fort Prince George, Pickens County, SC, by Mr. John D. Combes of SCIAA, during the Keowee Toxaway Reservoir salvage excavations conducted for Duke Power Company of Charlotte, NC. These individuals were listed in a Notice of Inventory Completion published in the Federal Register on July 7, 2023 (88 FR 4204-4205) and have been repatriated. Subsequently, one associated funerary object was discovered in SCIAA collections, consisting of one lot of faunal material.

In 1967, human remains representing, at minimum, 20 individuals were removed from site 38PN2, I.C. Few, Pickens County, SC, by Dr. Robert T. Grange, Jr. of the Department of Anthropology, University of South Florida, Tampa, during the Keowee Toxaway Reservoir salvage excavations conducted by SCIAA for Duke Power Company of Charlotte, NC. The five associated funerary objects are one lot consisting of shell material, one lot consisting of faunal material, one lot consisting of lithic material, one lot of charcoal, and one lot consisting of ceramic material.

In 1967, human remains representing, at minimum, one individual were removed from site 38PN4, Rock Turtle, Pickens County, SC, by Dr. William E. Edwards of SCIAA, during the Keowee Toxaway Reservoir salvage excavations conducted by SCIAA for Duke Power Company of Charlotte, NC. The six associated funerary objects are one lot consisting of metal material, one lot consisting of ceramic material, one lot consisting of glass material, one lot consisting of lithic material, one lot consisting of soil, and one lot consisting of charcoal.

In 1967, one associated funerary object was removed from site 38PN34, the Pot Site, Pickens County, SC, by Mr. John D. Combes of SCIAA, during the Keowee Toxaway Reservoir salvage excavations conducted by SCIAA for Duke Power Company of Charlotte, NC. The one associated funerary object is one lot consisting of ceramic material.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, and historical information.

Determinations

Pursuant to NAGPRA and its implementing regulations, and after consultation with the appropriate Indian Tribes and Native Hawaiian organizations, the SCIAA has determined that:

• The human remains described in this notice represent the physical remains of 21 individuals of Native American ancestry.

• The 13 objects described in this notice are reasonably believed to have been placed with or near individual human remains at the time of death or later as part of the death rite or ceremony.

• There is a relationship of shared group identity that can be reasonably traced between the human remains and associated funerary objects described in this notice and the Cherokee Nation; Eastern Band of Cherokee Indians; and the United Keetoowah Band of Cherokee Indians in Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 18, 2024. If competing requests for repatriation are received, the SCIAA must determine the most appropriate requestor prior to repatriation. Requests for joint repatriation of the human remains and associated funerary objects are considered a single request and not competing requests. The SCIAA is responsible for sending a copy of this notice to the Indian Tribes and Native Hawaiian organizations identified in this notice.

Authority: Native American Graves Protection and Repatriation Act, 25 U.S.C. 3003, and the implementing regulations, 43 CFR 10.9, 10.10, and 10.14.

Dated: December 8, 2023.
Melanie O'Brien,
Manager, National NAGPRA Program.

[FR Doc. 2023-27794 Filed 12-18-23; 8:45 am]

BILLING CODE 4312-52-P